DEPARTMENT OF DEFENSE

Department of the Army

Notice of Patent Application Deadline for Advanced Battery Technology Related Patents for Exclusive, Partially Exclusive, or Non-Exclusive Licenses; Battery Day Patent Licensing Meeting

AGENCY: Department of the Army, DoD.

ACTION: Notice.

SUMMARY: The Department of the Army had announced the general availability of exclusive, partially exclusive or non-exclusive licenses relative to the following listing of intellectual property in the Federal Register on January 19, 2011 (76 FR 3118). A patent licensing meeting was subsequently held February 16, 2011 at the SAIC Enterprise Bldg Conference Center, 8301 Greensboro Drive, McLean, VA 22102. All patent license applications for the referenced intellectual property must be postmarked NLT April 15, 2011. Patent license applications may be downloaded at http://www.arl.army.mil/www/default.cfm?page=556 (Battery Day Fact Sheets).

1. ARL 01-37—Choosing Electrolytes for Lithium/Air Batteries (US 7,585,579).

2. ARL 02-06—Solvent Systems Comprising a Mixture of Lactams and Esters for Non-Aqueous Electrolytes and Non-Aqueous Electrolyte Cells Comprising the Same (US 7,442,471 B1).

3. ARL 02-27—Additive for Enhancing the Performance of Electrochemical Cells (US 7,172,834 B1).

4. ARL 02-27 D1—Non-aqueous solvent electrolyte battery with additive alkali metal salt of a mixed anhydride combination of oxalic acid and boric acid (US 7,524,579 B1).

5. ARL 04-29—Safer, Less Expensive Lithium Ion Batteries (US 7,629,080).

6. ARL 05-18—High Capacity Metal/Air Battery. Filed with USPTO on 4/1/2009 (S/N #12/416,309).

7. ARL 08-15—Improvement Through Protection: Enabling More Powerful Lithium Batteries. Provisional filed with USPTO on 5/13/2010 (S/N #61/334,265); non-provisional due by 5/13/2011.

8. ARL 08-37—Higher Voltage, Safer Lithium-Carbon Fluoride Battery. Filed with USPTO on 9/8/2010 (S/N #12/877,153).

9. ARL 08-39—Better Performing Lithium/Carbon Fluoride Battery. Filed with USPTO on 11/24/10; (S/N 61/416,923).

10. ARL 09-18—Increasing Performance by Reducing Resistance in Lithium Ion Batteries. Filed with USPTO on 2/3/2010 (S/N #12/699,182).

11. ARL 09-33—Pure LiBOB Salt & Purification Process. Filed with USPTO on 10/27/10 (S/N 61/407,153).

12. ARL 09-41—Longer Lasting Lithium/Oxygen Battery. Provisional filed with USPTO on 1/11/11, (S/N 61/431,602).

13. ARL 10-14—Ultra-Fast Bi-Directional Solid State Circuit Breaker (battery related). PATENT STATUS—To be filed prior to meeting.

14. ARL 10-28—Electrolyte for Next Generation 5V Li-ion Batteries. Provisional filed with USPTO on 7/6/2010 (S/N # 61/361,625).

FOR FURTHER INFORMATION CONTACT: Michael D. Rausa, U.S. Army Research Laboratory, Office of Research and Technology Applications, ATTN: RDRL-DB/Bldg. 434, Aberdeen Proving Ground, MD 21005-5425, Telephone: (410) 278-5028.

SUPPLEMENTARY INFORMATION: None.

Brenda S. Bowen,
Army Federal Register Liaison Officer.

[FR Doc. 2011-7738 Filed 3-31-11; 8:45 am]

BILLING CODE 3710-08-P